DEPARTMENT OF HEALTH AND HUMAN SERVICES

Administration for Community Living

Administration on Intellectual and Developmental Disabilities, President's Committee for People With Intellectual Disabilities

AGENCY: Administration for Community Living, HHS.

ACTION: Notice.

SUMMARY: The President's Committee for People with Intellectual Disabilities (PCPID) will host a webinar/conference call for its members to discuss the preparation of the 2015 Report to the President (RTP). The topic of the PCPID 2015 RTP will be on the roles of technology in the lives of individuals with intellectual and developmental disabilities and their families.

All the PCPID meetings, in any format, are open to the public. This webinar/conference call will be conducted in a discussion format.

The public can register to attend this webinar/conference call at https://aoa-events.webex.com/aoa-events/onstage/g.php?MTID=e88689392224a29b0b0110cff660d3e26.

DATES: Webinar: Tuesday, April 7, 2015 from 1:30 p.m. to approximately 3:30 p.m.

Registration for Webinar: March 16, 2015 through April 3, 2015.

ADDRESSES: Webinar Web page: https://aoa-events.webex.com/aoa-events/onstage/g.php?MTID=e88689392224a29b0b0110cff660d3e26.

FOR FURTHER INFORMATION CONTACT: For Reasonable Accomodations Contact: Dr. MJ Karimi, PCPID Team Lead, One Massachusetts Avenue NW., Room 4206, Washington, DC 20201. Email: MJ.Karimie@acl.hhs.gov; telephone: 202-357-3588; fax: 202-205-8037.

SUPPLEMENTARY INFORMATION: Background: The PCPID members participated in a face-to-face meeting on February 19-20, 2015 and streamlined the process of preparing the 2015 RTP. As the Phase I of the process, they decided to research four focus areas through the lens of technology. These focus areas included:

1. Education;

2. Community Living;

3. Health and Wellness;

4. Economic Well-Being.

The members also agreed to reconvene in April, through a webinar/conference call, to report their findings to the full Committee and discuss the development of potential recommendations for inclusion to the PCPID 2015 RTP.

The general purpose of the PCPID webinar/conference call is, thus, to present a forum for the members to complete Phase I and discuss the next phase of preparing the PCPID 2015 RTP.

Webinar and Registration: The webinar is scheduled for April 7, 2015, 1:30 p.m. to 3:30 p.m. (EST) and may end early if discussions are finished. Registration for the webinar is required and is open from March 16, 2015 to April 3, 2015.

Instructions to Register in the Webinar/Conference Call on Tuesday April 7, 2015:

1. WebEx Link: https://aoa-events.webex.com/aoa-events/onstage/g.php?MTID=e88689392224a29b0b0110cff660d3e26.

2. Click on the “Register” button on the page.

3. Enter the required information and click “Submit.”

Instructions to Participate in the Webinar/Conference Call on Tuesday April 7, 2015:

4. WebEx Link: https://aoa-events.webex.com/aoa-events/onstage/g.php?MTID=e88689392224a29b0b0110cff660d3e26.

5. Click on the “join” button on the page.

6. Enter your name and email address.

7. Follow additional instructions as provided by WebEx. If a password is needed for the WebEx link, please enter 123456.

Call-in number: (888) 469-0957; Pass Code: 8955387 (please put your phone on mute during the meeting).

Background information on PCPID: The PCPID acts in an advisory capacity to the President and the Secretary of Health and Human Services, through the Administration on Intellectual and Developmental Disabilities, on a broad range of topics relating to programs, services and supports for persons with intellectual disabilities. The PCPID Executive Order stipulates that the Committee shall: (1) Provide such advice concerning intellectual disabilities as the President or the Secretary of Health and Human Services may request; and (2) provide advice to the President concerning the following for people with intellectual disabilities: (A) Expansion of educational opportunities; (B) promotion of homeownership; (C) assurance of workplace integration; (D) improvement of transportation options; (E) expansion of full access to community living; and (F) increasing access to assistive and universally designed technologies.

Dated: March 11, 2015.
Aaron Bishop,
Commissioner, Administration on Intellectual and Developmental Disabilities.

[FR Doc. 2015-06085 Filed 3-16-15; 8:45 am]

BILLING CODE 4154-01-P